DEPARTMENT OF THE INTERIOR

Bureau of Land Management

[LLHQ310000.L13100000.PP0000; OMB Control No. 1004-0137]

Agency Information Collection Activities; Onshore Oil and Gas Operations and Production

AGENCY: Bureau of Land Management, Interior.

ACTION: Notice of information collection; request for comment.

SUMMARY: In accordance with the Paperwork Reduction Act of 1995 (PRA), the Bureau of Land Management (BLM) has submitted to the Office of Management and Budget (OMB) a request to renew an information collection.

DATES: Interested persons are invited to submit comments on or before October 18, 2021.

ADDRESSES: Written comments and recommendations for the proposed Information Collection Request (ICR) should be sent within 30 days of publication of this notice to www.reginfo.gov/public/do/PRAMain. Find this particular information collection by selecting “Currently under 30-day Review—Open for Public Comments” or by using the search function.

FOR FURTHER INFORMATION CONTACT: To request additional information about this ICR, contact Jennifer Spencer by email at j35spenc@blm.gov, or by telephone at 307-775-6261. Individuals who are hearing or speech impaired may call the Federal Relay Service at 1-800-877-8339 for TTY assistance. You may also view the ICR at http://www.reginfo.gov/public/do/PRAMain.

SUPPLEMENTARY INFORMATION: In accordance with the PRA (44 U.S.C. 3501 et seq. and 5 CFR 1320.8(d)(1)), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on June 24, 2021 (86 FR 33347). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Under the below listed Federal and Indian mineral leasing statutes authorize the BLM to grant and manage onshore oil and gas leases on Federal and Indian (except Osage Tribe) lands:

• Chapter 3A, Subchapter I of the Mineral Leasing Act, 30 U.S.C. 181-196;

• Chapter 3A, Subchapter IV of the Mineral Leasing Act, 30 U.S.C. 223-236b;

• The Mineral Leasing Act for Acquired Lands, 30 U.S.C. 351 360;

• The Federal Oil and Gas Royalty Management Act, 30 U.S.C. 1701-1759; and

• The Federal Land Policy and Management Act, 43 U.S.C. 1701-1787.

In order to fulfill its responsibilities under these statutes, the BLM needs to perform the information collection (IC) activities set forth in the regulations at 43 CFR parts 3160 and 3170, and in onshore oil and gas orders promulgated in accordance with 43 CFR 3164.1. OMB control number 1004-0137 is scheduled to expire on October 31, 2021. The BLM request that OMB renew this OMB control number of an additional three (3) years.

Title of Collection: Onshore Oil and Gas Operations and Production (43 CFR parts 3160 and 3170).

OMB Control Number: 1004-0137.

Form Numbers: BLM Form 3160-003; BLM Form 3160-004; and BLM Form 3160-005.

Type of Review: Extension of a currently approved collection.

Respondents/Affected Public: Oil and gas operators on public lands and some Indian lands.

Total Estimated Number of Annual Respondents: 7,500.

Total Estimated Number of Annual Responses: 301,663.

Estimated Completion Time per Response: Varies from 45 minutes to 40 hours, depending on activity.

Total Estimated Number of Annual Burden Hours: 1,835,888.

Respondent's Obligation: Required to obtain or retain a benefit.

Frequency of Collection: On occasion; One-time; and Monthly.

Total Estimated Annual Non-hour Burden Cost: $31,080,000.

An agency may not conduct or sponsor and, notwithstanding any other provision of law, a person is not required to respond to a collection of information unless it displays a currently valid OMB control number.

The authority for this action is the Paperwork Reduction Act of 1995 (44 U.S.C. 3501 et seq.).

Signed:
Darrin King,
Information Collection Clearance Officer.

[FR Doc. 2021-20177 Filed 9-16-21; 8:45 am]

BILLING CODE 4310-84-P